DEPARTMENT OF TRANSPORTATION

Federal Aviation Administration

14 CFR Part 39

[Docket No. FAA-2005-20794; Directorate Identifier 2004-NM-172-AD; Amendment 39-14235; AD 2005-17-14]

RIN 2120-AA64

Airworthiness Directives; Airbus Model A300 B2 and B4 Series Airplanes; Model A300 B4-600, B4-600R, and F4-600R Series Airplanes, and Model A300 C4-605R Variant F Airplanes (Collectively Called A300-600 Series Airplanes); and Model A310-200 and -300 Series Airplanes

AGENCY: Federal Aviation Administration (FAA), Department of Transportation (DOT).

ACTION: Final rule.

SUMMARY: The FAA is superseding an existing airworthiness directive (AD), which applies to all Airbus Model A300 B2 and B4 series airplanes; Model A300-600 series airplanes; and Model A310-200 and -300 series airplanes. That AD currently requires, among other actions, repetitive tests to detect desynchronization of the rudder servo actuators, and adjustment or replacement of the spring rods of the rudder servo actuators, if necessary. This new AD requires new repetitive tests/inspections/analyses of the rudder servo actuators, and related investigative/corrective actions if necessary. Accomplishment of the new actions ends the existing repetitive requirements. This AD is prompted by new reports of desynchronization of the rudder servo actuators. We are issuing this AD to prevent desynchronization of one of the three rudder servo actuators, which, if combined with an engine failure, could result in the loss of the related hydraulic system and could cause the loss of one of the two synchronized actuators. This condition could create additional fatigue loading and possible cracking on the attachment fittings and could result in the inability of the remaining synchronized actuator to maintain the commanded rudder deflection, which could result in reduced controllability of the airplane.

DATES: This AD becomes effective September 30, 2005.

The incorporation by reference of certain publications listed in the AD is approved by the Director of the Federal Register as of September 30, 2005.

On July 30, 1998 (63 FR 34580, June 25, 1998), the Director of the Federal Register approved the incorporation by reference of certain other publications listed in the AD.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20794; the directorate identifier for this docket is 2004-NM-172-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: The FAA proposed to amend part 39 of the Federal Aviation Regulations (14 CFR part 39) with an AD to supersede AD 98-13-33, amendment 39-10624 (63 FR 34580, June 25, 1998). The existing AD applies to all Airbus Model A300 B2 and B4 series airplanes; Model A300 B4-600, B4-600R, and F4-600R series airplanes, and Model A300 C4-605R Variant F airplanes (collectively called A300-600 series airplanes); and Model A310-200 and -300 series airplanes. The proposed AD was published in the Federal Register on April 5, 2005 (70 FR 17212), to continue to require repetitive tests to detect desynchronization of the rudder servo actuators, and adjustment or replacement of the spring rods of the rudder servo actuators, if necessary. The proposed AD would also require new repetitive tests/inspections/ analyses of the rudder servo actuators, and related investigative/corrective actions if necessary. The proposed AD states that accomplishing the new actions ends the existing repetitive requirements.

Comments

We provided the public the opportunity to participate in the development of this AD. We have considered the comments that have been submitted on the proposed AD.

Request To Withdraw the Proposed AD

The commenter states that it can find no compelling reason for the proposed AD. The commenter notes that it has been accomplishing the requirements of AD 98-13-33 for several years and has had no significant findings. The commenter states that it has previously accomplished the actions in the parallel French airworthiness directive, F-2004-092, dated June 23, 2004, which introduced the inspection for dead travel of the input lever of the rudder servo control due to an isolated incident with a single operator. The commenter asserts that this incident most likely resulted from improper assembly and testing of the servo control during repair and overhaul of the component. Therefore, the commenter does not see the value of or need for the inspection for dead travel. The commenter suggests that resolution of the discrepancy with the input lever of the rudder servo control should be addressed by revising the applicable component maintenance manual.

We infer that the commenter is requesting that we withdraw the proposed AD. We do not agree. The information that we have received from the manufacturer and the Direction Générale de l'Aviation Civile (DGAC), which is the airworthiness authority for France, does not indicate that the malfunction or misadjustment of the spring rods of the rudder servo actuator is an isolated incident. We find that the new repetitive tests, inspections, and analyses of the rudder servo actuators that will be newly required by this AD are necessary to ensure that all potential causes of desynchronization of the rudder servo actuators are addressed. As explained previously, desynchronization of one of the three rudder servo actuators, if combined with an engine failure, could result in the loss of the related hydraulic system and, potentially, loss of one of the two synchronized actuators. This condition could create additional fatigue loading and possible cracking on the attachment fittings and could result in the inability of the remaining synchronized actuator to maintain the commanded rudder deflection, which could result in reduced controllability of the airplane. The tests, inspections, and analyses, as well as any necessary investigative and corrective actions, required by this AD are intended to address this unsafe condition. We have not changed the final rule in this regard.

Request To Remove Reporting Requirement

The commenter declares that the reporting requirement included in paragraph (n) of the proposed AD is unnecessary and does not enhance the value of the proposed requirements. The commenter states that reporting data at this point would not be relevant because there have been numerous opportunities to correct the unsafe condition prior to the proposed AD.

We partially agree with the commenter's request. Reporting any discrepancy will help to determine the extent of the unsafe condition in the affected fleet. Based on the results of these reports, we may determine that further investigative or corrective action is necessary. Reporting any discrepancy may also help us to determine if other conditions, as yet undetected, are present in the fleet, which could lead to desynchronization of the rudder servo actuators. For these reasons, this AD will continue to require reporting any discrepancy in accordance with the applicable referenced Airbus service bulletin.

However, we have determined that it is not necessary to require reporting the inspection results in which there are no findings. Thus, we have revised paragraph (n) of this AD to specify that only positive findings must be reported.

Explanation of Change to Applicability

We have revised the applicability of this AD to identify model designations as published in the most recent type certificate data sheet for the affected models.

Conclusion

We have carefully reviewed the available data, including the comments that have been submitted, and determined that air safety and the public interest require adopting the AD with the changes described previously. We have determined that these changes will neither increase the economic burden on any operator nor increase the scope of the AD.

Costs of Compliance

The following table provides the estimated costs for U.S. operators to comply with this AD. The average labor rate is $65 per hour.

Estimated Costs
Action | Work hour | Parts | Cost per airplane, per cycle | Number of U.S.-registered airplanes | Fleet cost per cycle
Tests (required by AD 98-13-13) | 1 | None | $65 | 179 | $11,635
Tests/inspections/analyses (new requirement) | 1 | None | 65 | 179 | 11,635

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-10624 (63 FR 34580, June 25, 1998) and by adding the following new airworthiness directive (AD):

2005-17-14 Airbus: Amendment 39-14235. Docket No. FAA-2005-20794; Directorate Identifier 2004-NM-172-AD.

Effective Date

(a) This AD becomes effective September 30, 2005.

Affected ADs

(b) This AD supersedes AD 98-13-33, amendment 39-10624 (63 FR 34580, June 25, 1998).

Applicability

(c) This AD applies to all Airbus Model A300 B2-1A, B2-1C, B2K-3C, and B2-203 airplanes; Model A300 B4-2C, B4-103, and B4-203 airplanes; Model A300 B4-601, B4-603, B4-605R, B4-620, B4-622, B4-622R, C4-605R Variant F, F4-605R, and F4-622R airplanes; and Model A310-203, -204, -221, -222, -304, -322, -324, and -325 airplanes; certificated in any category.

Unsafe Condition

(d) This AD was prompted by new reports of desynchronization of the rudder servo actuators. We are issuing this AD to prevent desynchronization of one of the three rudder servo actuators, which, if combined with an engine failure, could result in the loss of the related hydraulic system and could cause the loss of one of the two synchronized actuators. This condition could create additional fatigue loading and possible cracking on the attachment fittings and could result in the inability of the remaining synchronized actuator to maintain the commanded rudder deflection, which could result in reduced controllability of the airplane.

Compliance

(e) You are responsible for having the actions required by this AD performed within the compliance times specified, unless the actions have already been done.

Requirements of AD 98-13-33

Repetitive Tests and Adjustment or Replacement

(f) Prior to accumulation of 1,300 total flight hours, or within 500 flight hours after July 30, 1998 (the effective date of AD 98-13-33), whichever occurs later, and thereafter at intervals not to exceed 1,300 flight hours: Perform a test to detect desynchronization of the rudder servo actuators in accordance with Airbus Service Bulletin A300-27-0188, Revision 2, dated October 1, 1997 (for Model A300 series airplanes); A300-27-6036, Revision 2, dated October 1, 1997 (for Model A300-600 series airplanes); or A310-27-2082, Revision 2, dated October 1, 1997 (for Model A310-200 and -300 series airplanes); as applicable. If any desynchronization (rudder movement) is detected, prior to further flight, either adjust or replace, as applicable, the spring rod of the affected rudder servo actuator in accordance with the applicable service bulletin.

Note 1: A test to detect desynchronization of the rudder servo actuators, if accomplished prior to the effective date of this AD in accordance with Airbus Service Bulletin A300-27-0188, dated October 24, 1996, or Revision 1, dated November 5, 1996 (for Model A300 series airplanes); A300-27-6036, dated October 24, 1996, or Revision 1, dated November 5, 1996 (for Model A300-600 series airplanes); or A310-27-2082, dated October 24, 1996, or Revision 1, dated November 5, 1996 (for Model A310-200 and -300 series airplanes); is considered acceptable for compliance with the initial test required by paragraph (f) of this AD.

(g) Except as provided by paragraph (h) of this AD, if any desynchronization (rudder movement) greater than the limit specified in Paragraph B of the Accomplishment Instructions of the applicable service bulletin is detected during any test required by paragraph (f) of this AD, prior to further flight, accomplish either paragraph (g)(1) or (g)(2) of this AD, in accordance with Airbus Service Bulletin A300-55-0044, dated October 22, 1996 (for Model A300 series airplanes); A300-55-6023, dated October 22, 1996 (for Model A300-600 series airplanes); or A310-55-2026, dated October 22, 1996 (for Model A310 series airplanes); as applicable.

(1) Conduct a visual inspection, high frequency eddy current inspection, or ultrasonic inspection, as applicable, to detect cracking of the rudder attachments; and repeat the inspection thereafter, as applicable, at the intervals specified in the applicable service bulletin. Or

(2) Modify the rudder attachments to cold expand the rivet holes.

(h) If any crack is found during any inspection or modification required by paragraph (g) of this AD, and the applicable service bulletin specifies to contact Airbus for an appropriate action: Prior to further flight, repair the affected structure in accordance with a method approved by the Manager, International Branch, ANM-116, Transport Airplane Directorate, FAA, or in accordance with a method approved by the Direction Générale de l'Aviation Civile (DGAC).

New Requirements of This AD

Service Bulletins

(i) The term “primary service bulletin,” as hereafter used in this AD, means the Accomplishment Instructions of the applicable primary service bulletin in Table 1 of this AD.

Table 1.—Primary Service Bulletins
Airbus service bulletin— | For—
(1) A300-27-0188, including Appendix 01 and Reporting Sheet, Revision 05, dated April 16, 2004 | Model A300 B2 and B4 series airplanes.
(2) A300-27-6036, including Appendix 01 and Reporting Sheet, Revision 08, dated April 16, 2004 | Model A300-600 series airplanes.
(3) A310-27-2082, including Appendix 01 and Reporting Sheet, Revision 05, dated April 16, 2004 | Model A310-200 and -300 series airplanes.

(j) The primary service bulletin refers to the applicable secondary service bulletin in Table 2 of this AD as an additional source of service information for accomplishing the related investigative actions for certain conditions.

Table 2.—Secondary Service Bulletins
Airbus service bulletin— | For—
(1) A300-55-0044, Revision 03, dated April 16, 2004 | Model A300 B2 and B4 series airplanes.
(2) A310-55-2026, Revision 02, dated April 16, 2004 | Model A310-200 and -300 series airplanes.
(3) A300-55-6023, Revision 05, dated April 16, 2004 | Model A300-600 series airplanes.

Compliance Times

(k) Do the actions specified in paragraph (l) of this AD at the following times:

(1) Within 700 flight hours after the effective date of this AD or within 1,300 flight hours after the last inspection required by either paragraph (f) or (g) of this AD, whichever occurs first; and

(2) Thereafter at intervals not to exceed 1,300 flight hours.

Tests/Inspections/Analyses and Related Investigative/Corrective Actions

(l) Do the actions specified in paragraphs (l)(1) through (l)(4) of this AD and any applicable related investigative/corrective actions by doing all the actions in accordance with the primary service bulletin, except as required by paragraph (m) of this AD. Related investigative and corrective actions must be done before further flight. Accomplishing these actions ends the requirements of paragraphs (f) through (h) of this AD.

(1) Do an operational test of the rudder system with each hydraulic system pressurized in turn.

(2) Do a static inspection for correct synchronization of the rudder servo controls with each hydraulic system.

(3) Inspect to find dead travel of the input lever of the rudder servo control for each hydraulic system.

(4) Analyze the results of the static inspection required by paragraph (l)(2) of this AD and the inspection to find dead travel required by paragraph (l)(3) of this AD.

(m) If the primary/secondary service bulletin recommends contacting Airbus for appropriate action: Before further flight, repair any discrepancy in accordance with a method approved by either the Manager, International Branch, ANM-116; or the DGAC (or its delegated agent).

Reporting

(n) At the applicable time specified in paragraph (n)(1) or (n)(2) of this AD, submit a report only of positive findings in accordance with the primary service bulletin. Under the provisions of the Paperwork Reduction Act of 1980 (44 U.S.C. 3501 et seq.), the Office of Management and Budget (OMB) has approved the information collection requirements contained in this AD and has assigned OMB Control Number 2120-0056.

(1) If the action specified in the primary service bulletin was done after the effective date of this AD: Submit the report within 30 days after the inspection.

(2) If the action specified in the primary service bulletin was accomplished before the effective date of this AD: Submit the report within 30 days after the effective date of this AD.

Alternative Methods of Compliance (AMOCs)

(o)(1) The Manager, International Branch, ANM-116, has the authority to approve AMOCs for this AD, if requested in accordance with the procedures found in 14 CFR 39.19.

(2) AMOCs approved previously according to AD 98-13-33 are not approved as AMOCs with this AD.

Related Information

(p) French airworthiness directive F-2004-092, issued June 23, 2004, also addresses the subject of this AD.

Material Incorporated by Reference

(q) You must use the service information listed in Table 3 of this AD to perform the actions that are required by this AD, unless the AD specifies otherwise.

Table 3.—Material Incorporated by Reference
Airbus service bulletin | Revision level | Date
A300-27-0188 | 2 | October 1, 1997.
A300-27-0188, including Appendix 01 and Reporting Sheet | 05 | April 16, 2004.
A300-27-6036 | 2 | October 1, 1997.
A300-27-6036, including Appendix 01 and Reporting Sheet | 08 | April 16, 2004.
A300-55-0044 | Original | October 22, 1996.
A300-55-6023 | Original | October 22, 1996.
A310-27-2082 | 2 | October 1, 1997.
A310-27-2082, including Appendix 01 and Reporting Sheet | 05 | April 16, 2004.
A310-55-2026 | Original | October 22, 1996.

(1) The Director of the Federal Register approves th incorporatin by reference of the service information listed in Table 4 of this AD in accordance with 5 U.S.C. 552(a) and 1 CFR part 51.

Table 4.—New Material Incorporated by Reference
Airbus service bulletin | Revision level | Date
A300-27-0188, including Appendix 01 and Reporting Sheet | 05 | April 16, 2004.
A300-27-6036, including Appendix 01 and Reporting Sheet | 08 | April 16, 2004.
A310-27-2082, including Appendix 01 and Reporting Sheet | 05 | April 16, 2004.

(2) On July 30, 1998 (63 FR 34580, June 25, 1998), the Director of the Federal Register previously approved the incorporation by reference of the service information listed in Table 5 of this AD.

Table 5.—Material Previously Incorporated by Reference
Airbus service bulletin | Revision level | Date
A300-27-0188 | 2 | October 1, 1997.
A300-27-6036 | 2 | October 1, 1997.
A300-55-0044 | Original | October 22, 1996.
A300-55-6023 | Original | October 22, 1996.
A310-27-2082 | 2 | October 1, 1997.
A310-55-2026 | Original | October 22, 1996.

(3) To get copies of the service information, contact Airbus, 1 Rond Point Maurice Bellonte, 31707 Blagnac Cedex, France. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal-register/cfr/ibr-locations.html.

Issued in Renton, Washington, on August 12, 2005.
Ali Bahrami,
Manager, Transport Airplane Directorate, Aircraft Certification Service.

[FR Doc. 05-16749 Filed 8-25-05; 8:45 am]

BILLING CODE 4910-13-P